NUCLEAR REGULATORY COMMISSION

[NRC-2010-0178; Docket No. 50-228; License No. R-98]

In the Matter of Aerotest Operations, Inc. (Aerotest Radiography and Research Reactor); Order Extending the Effectiveness of the Approval of the Indirect Transfer of Facility Operating License

I

Aerotest Operations, Inc., (Aerotest, the licensee) is the holder of Facility Operating License No. R-98 which authorizes the possession, use, and operation of the Aerotest Radiography and Research Reactor (ARRR) located in San Ramon, California, under the provisions of Title 10 of the Code of Federal Regulations (10 CFR) Section 50.21(c) for research and development purposes. Aerotest is a wholly owned subsidiary of OEA Aerospace, Inc., which is wholly owned by OEA, Inc. OEA, Inc., is a wholly owned subsidiary of Autoliv ASP, Inc., (Autoliv), which is owned by Autoliv, Inc.

II

The U. S. Nuclear Regulatory Commission's (NRC) Order dated July 6, 2010, consented to the indirect transfer of control of the above facility from its current owner, Autoliv to X-Ray Industries, Inc. (X-Ray), (together, the applicants), pursuant to 10 CFR 50.80. By its terms, the Order of July 6, 2010, would become null and void if the license transfer was not completed by September 13, 2010, unless upon application and for good cause shown, such date was extended by the Commission.

III

By letter dated September 3, 2010, Aerotest submitted a request for an extension of the effectiveness of the Order of July 6, 2010, such that the Order would remain effective through September 28, 2010. According to the submittal, “Aerotest, along with the Buyer and Seller (the “Parties”) have diligently pursued necessary agreements from the U.S. Department of Energy (“DOE”) and U.S. Department of Defense (“DoD”) with regard to used nuclear fuel at the ARRR. However, such agreements have proved difficult to secure for reasons beyond the control of Aerotest and the other Parties.

Aerotest expects to be able to inform the NRC by September 17, 2010, of the date by which an agreement with the DOE and DoD on used nuclear fuel will be able to be completed. At that time, Aerotest expects to be able to identify a date by which all U. S. Government agreements will be in hand so that the transfer may be consummated. Therefore, Aerotest requests an extension until seven (7) business days after September 17, 2010 or until September 28, 2010. An extension of the Transfer Order until September 28, 2010 is expected to give Aerotest adequate time to identify how long an extension is needed to complete agreements on used nuclear fuel with DOE and DoD.”

The applicant stated in its September 3, 2010, extension request that the transaction will not be completed by September 13, 2010.

The NRC staff has considered the submittal of September 3, 2010, request for extension, and has determined that good cause to extend the effectiveness of the Order of July 6, 2010, has been shown in that the delay in completing the transaction was not caused by the licensee.

IV

Accordingly, pursuant to Sections 161b, 161i, 161o, and 184 of the Atomic Energy Act of 1954, as amended (the Act), 42 U.S.C.2201(b), 2201(i), 2201(o), and 2234; and 10 CFR 50.80, it is hereby ordered that the effectiveness of the Order of July 6, 2010, described herein be extended until October 15, 2010, subject to the conditions set forth in the July 6, 2010, Order, and subject to the following additional conditions:

A. No later than September 28, 2010, a description of the agreements the parties anticipate reaching with the U.S. Department of Energy and the U.S. Department of Defense regarding the ultimate fuel disposition shall be submitted in writing to the NRC Director, Division of Policy and Rulemaking. The September 28 submission shall also provide an estimated date for completion of the transfer.

B. The parties shall provide a written report to the NRC Director, Division of Policy and Rulemaking, on a weekly basis, progress made toward completion of the transfer.

It is further ordered that if the proposed transfer is not consummated by October 15, 2010, the Order of July 6, 2010, shall become null and void, unless upon application, on or before September 28, 2010, and for good cause shown, such date is further extended by Order.

This Order is effective upon issuance.

For further details with respect to this Order, see the submittal dated September 3, 2010, (Agencywide Documents Access and Management System (ADAMS) Accession No. ML102510500), which is available for public inspection at the Commission's Public Document Room (PDR), located at One White Flint North, Public File Area 01 F21, 11555 Rockville Pike (first floor), Rockville, Maryland, and accessible electronically from the ADAMS Public Electronic Reading Room on the Internet at the NRC Web site, http://www.nrc.gov/reading-rm/adams.html. Persons who do not have access to ADAMS or who encounter problems in accessing the documents located in ADAMS, should contact the NRC PDR reference staff by telephone at 1-800-397-4209, or 301-415-4737, or by e-mail to pdr.resource@nrc.gov.

Dated at Rockville, Maryland this 13th day of September, 2010. For the Nuclear Regulatory Commission.
Timothy J. McGinty,
Director Division of Policy and Rulemaking, Office of Nuclear Reactor Regulation.

[FR Doc. 2010-23250 Filed 9-16-10; 8:45 am]

BILLING CODE 7590-01-P